DEPARTMENT OF THE INTERIOR

National Park Service

[NPS-IMR-LAMR-16527; PP1LAMR00.PPMPSAS1Z.Y00000]

Off-Road Vehicle Management Plan, Final Environmental Impact Statement, Lake Meredith National Recreation Area, Texas

AGENCY: National Park Service, Interior.

ACTION: Notice of availability.

SUMMARY: The National Park Service (NPS) announces the availability of a Final Environmental Impact Statement (FEIS) for the Off-Road Vehicle Management Plan (Plan), Lake Meredith National Recreation Area, Texas. The Plan/FEIS evaluates the impacts of four alternatives that address off-road vehicle (ORV) management in the national recreation area.

DATES: The NPS will execute a Record of Decision (ROD) no sooner than 30 days following publication by the Environmental Protection Agency of its Notice of Availability of the Final Environmental Impact Statement.

ADDRESSES: The Plan/FEIS is available in electronic format online at: http://parkplanning.nps.gov/LAMR. Hard copies of the Plan/FEIS are available at Lake Meredith National Recreation Area, Alibates Flint Quarries National Monument Offices, 419 E. Broadway, Fritch, Texas 79036-1460, by phone at 806-857-3151.

FOR FURTHER INFORMATION CONTACT: Robert Maguire, Superintendent, Lake Meredith National Recreation Area, Alibates Flint Quarries National Monument, P.O. Box 1460, Fritch, Texas 79036-1460, by phone at 806-857-3151, or by email at Robert_Maguire@nps.gov.

SUPPLEMENTARY INFORMATION: The Plan/FEIS responds to, and incorporates agency and public comments received on the Draft Environment Impact Statement (DEIS) and Plan, which was available for public review from January 25, 2013, to March 26, 2013. Public meetings were held on March 19 and 20, 2013, to gather input on the EIS and Plan. Over 116 pieces of correspondence were received during the public review period. Agency and public comments and NPS responses are provided in Appendix B of the FEIS/Plan.

The purpose of this Plan/FEIS is to manage ORV use in the national recreation area for visitor enjoyment and recreation opportunities, while minimizing and correcting damage to resources. By special regulation (Title 36, Section 7.57 of the Code of Federal Regulations), the national recreation area allows the use of ORVs in two areas: Blue Creek and Rosita Flats. The Plan/FEIS evaluates four alternatives to manage ORV use in the national recreation area: a No Action Alternative (A) and three Action Alternatives (B, C, and D (preferred). When approved, the Plan will guide the management of ORV use for the next 15-20 years.

Alternative A: No Action—The national recreation area would continue to operate under the 2007 Interim ORV Management Plan where ORVs are allowed below the 3,000 foot elevation line in Rosita Flats and from cutbank to cutbank at Blue Creek. Limited facilities are supplied. No additional management tools such as zoning, permits, or use limits would be implemented.

Alternative B: Under this alternative, ORV use would be managed through a zone system. Uses would be separated into the following zones: camping, hunting, resource protection, low speed, and beginner. At Rosita Flats, two areas would be established as ORV areas and a number of routes would be designated. At Blue Creek, ORVs would only be allowed on sandy bottom areas designated routes, with ORV use prohibited on vegetated areas. ORV users would be required to obtain a free permit for educational purposes.

Alternative C: This alternative would manage ORV use through a fee permit system and user limits. Permits would include a fee, and initially there would be no limit on the number of permits. However, additional studies would be required to determine the appropriate use limit, and limits could be set in the future. ORV routes and areas would be designated, including one ORV area and designated routes at Rosita Flats and the sandy bottom area of Blue Creek.

Alternative D: The Preferred Alternative would manage ORV use through a zone system. Uses would be separated into the following zones: camping, hunting, resource protection, low speed, and beginner. At Rosita Flats, two areas would be established as ORV areas and a number of routes would be designated. At Blue Creek, ORVs would only be allowed on sandy bottom areas designated routes, with ORV use prohibited on vegetated areas. ORV permits would be required and a fee would apply. Permit fees would be used to recover costs associated with ORV management. New and current education and outreach efforts would also continue under alternative D. Alternative D would fully meet the plan objectives and has more certainty of success than the other alternatives analyzed.

Dated: November 20, 2014.
Sue E. Masica,
Regional Director, Intermountain Region, National Park Service.

[FR Doc. 2015-00539 Filed 1-14-15; 8:45 am]

BILLING CODE 4312-CB-P